DEPARTMENT OF COMMERCE

Foreign-Trade Zones Board

[S-91-2022]

Approval of Expansion of Subzone 168G; Sager Electronics, Lewisville, Texas

On June 8, 2022, the Executive Secretary of the Foreign-Trade Zones (FTZ) Board docketed an application submitted by Metroplex International Trade Development Corporation, grantee of FTZ 168, requesting expanded subzone status subject to the existing activation limit of FTZ 168, on behalf of Sager Electronics, in Lewisville, Texas.

The application was processed in accordance with the FTZ Act and Regulations, including notice in the Federal Register inviting public comment (87 FR 35967, June 14, 2022). The FTZ staff examiner reviewed the application and determined that it meets the criteria for approval.

Pursuant to the authority delegated to the FTZ Board Executive Secretary (15 CFR 400.36(f)), the application to expand Subzone 168G was approved on August 2, 2022, subject to the FTZ Act and the Board's regulations, including Section 400.13, and further subject to FTZ 168's 1,955.59-acre activation limit.

Dated: August 2, 2022.
Andrew McGilvray,
Executive Secretary.

[FR Doc. 2022-16842 Filed 8-4-22; 8:45 am]

BILLING CODE 3510-DS-P